DEPARTMENT OF HOMELAND SECURITY

Federal Emergency Management Agency

[Docket ID FEMA-2021-0002; Internal Agency Docket No. FEMA-B-2136]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Calhoun | City of Oxford (20-04-1850P). | The Honorable Alton Craft, Mayor, City of Oxford, P.O. Box 3383, Oxford, AL 36203. | Public Works Department, 42 Public Works Drive, Oxford, AL 36203. | https://msc.fema.gov/portal/advanceSearch | Aug. 28, 2021 | 010023
Lee | City of Auburn (20-04-4301P). | The Honorable Ron Anders, Jr., Mayor, City of Auburn, 144 Tichenor Avenue, Suite 1, Auburn, AL 36830. | City Hall, 144 Tichenor Avenue, Auburn, AL 36830. | https://msc.fema.gov/portal/advanceSearch | Aug. 20, 2021 | 010144
Lee | City of Opelika (20-04-2856P). | The Honorable Gary Fuller, Mayor, City of Opelika, P.O. Box 390, Opelika, AL 36803. | Public Works Department, 700 Fox Trail, Opelika, AL 36803. | https://msc.fema.gov/portal/advanceSearch | Aug. 20, 2021 | 010145
Lee | Unincorporated areas of Lee County (20-04-4301P). | The Honorable Bill English, Chairman, Lee County Commission, P.O. Box 666, Opelika, AL 36803. | Lee County Building Inspection Department, 100 Orr Avenue, Opelika, AL 36804. | https://msc.fema.gov/portal/advanceSearch | Aug. 20, 2021 | 010250
Shelby | City of Helena (21-04-0379P). | The Honorable J. Brian Puckett, Mayor, City of Helena, 846 Highway 52 East, Helena, AL 35080. | City Hall, 816 Highway 52 East, Helena, AL 35080. | https://msc.fema.gov/poral/advanceSearch | Aug. 23, 2021 | 010294
St. Clair | City of Margaret (20-04-4313P). | The Honorable Jeffery G. Wilson, Mayor, City of Margaret, P.O. Box 100, Margaret, AL 35953. | St. Clair County Flood Management Department, 165 5th Avenue, Suite 100, Ashville, AL 35953. | https://msc.fema.gov/portal/advanceSearch | Aug. 20, 2021 | 010393
St. Clair | Unincorporated areas of St. Clair County (20-04-4313P). | The Honorable Paul Manning, Chairman, St. Clair County Commission, 165 5th Avenue, Suite 100, Ashville, AL 35953. | St. Clair County Flood Management Department, 165 5th Avenue, Suite 100, Ashville, AL 35953. | https://msc.fema.gov/portal/advanceSearch | Aug. 20, 2021 | 010290
Colorado:
Arapahoe | City of Aurora (21-08-0025P). | The Honorable Mike Coffman, Mayor, City of Aurora, 15151 East Alameda Parkway, Aurora, CO 80012. | Engineering Department, 15151 East Alameda Parkway, Aurora, CO 80012. | https://msc.fema.gov/portal/advanceSearch | Aug. 27, 2021 | 080002
Arapahoe | Unincorporated areas of Arapahoe County (21-08-0025P). | The Honorable Nancy Jackson, Chair, Arapahoe County Board of Commissioners, 5334 South Prince Street, Littleton, CO 80120. | Arapahoe County Public Works and Development Department, 6924 South Lima Street, Centennial, CO 80112. | https://msc.fema.gov/portal/advanceSearch | Aug. 27, 2021 | 080011
Jefferson | City of Arvada (20-08-0711P). | The Honorable Marc Williams, Mayor, City of Arvada, 8101 Ralston Road, Arvada, CO 80002. | Engineering Division, 8101 Ralston Road, Arvada, CO 80002. | https://msc.fema.gov/portal/advanceSearch | Aug. 13, 2021 | 085072
Weld | City of Windsor (21-08-0099P). | The Honorable Paul Rennemeyer, Mayor, Town of Windsor, 301 Walnut Street, Windsor, CO 80550. | City Hall, 301 Walnut Street, Windsor, CO 80550. | https://msc.fema.gov/portal/advanceSearch | Aug. 30, 2021 | 080264
Weld | Unincorporated areas of Weld County (21-08-0099P). | The Honorable Steve Moreno, Chairman, Weld County Board of Commissioners, P.O. Box 758, Greeley, CO 80631. | Weld County Administration Building, 1150 O Street, Greeley, CO 80631. | https://msc.fema.gov/portal/advanceSearch | Aug. 30, 2021 | 080266
Connecticut: New London | Town of Waterford (20-01-1005P). | The Honorable Robert J. Brule, First Selectman, Town of Waterford, Board of Selectmen, 15 Rope Ferry Road, Waterford, CT 06385. | Town Hall, 15 Rope Ferry Road, Waterford, CT 06385. | https://msc.fema.gov/portal/advanceSearch | Aug. 6, 2021 | 090107
Delaware:
Sussex | City of Seaford (20-03-1397P). | The Honorable David Genshaw, Mayor, City of Seaford, P.O. Box 1100, Seaford, DE 19973. | City Hall, 414 High Street, Seaford, DE 19973. | https://msc.fema.gov/portal/advanceSearch | Aug. 18, 2021 | 100048
Sussex | Unincorporated areas of Sussex County (20-03-1397P). | The Honorable Michael H. Vincent, President, Sussex County Council, P.O. Box 589, Georgetown, DE 19947. | Sussex County Administrative Building, 2 The Circle, Georgetown, DE 19947. | https://msc.fema.gov/portal/advanceSearch | Aug. 18, 2021 | 100029
Florida:
Marion | City of Ocala (20-04-4466P). | The Honorable Kent Guinn, Mayor, City of Ocala, 110 Southeast Watula Avenue, Ocala, FL 34471. | Building Department, 110 Southeast Watula Avenue, Ocala, FL 34471. | https://msc.fema.gov/portal/advanceSearch | Aug. 20, 2021 | 120330
Pinellas | Town of Belleair (21-04-0918P). | Mr. J.P. Murphy, Manager, Town of Belleair, 901 Ponce de Leon Boulevard, Belleair, FL 33756. | Building Department, 901 Ponce de Leon Boulevard, Belleair, FL 33756. | https://msc.fema.gov/portal/advanceSearch | Aug. 5, 2021 | 125088
Georgia: Columbia | Unincorporated areas of Columbia County (21-04-0847P). | The Honorable Douglas Duncan, Chairman, Columbia County Board of Commissioners, P.O. Box 498, Evans, GA 30809. | Columbia County Engineering Services Department, 630 Ronald Reagan Drive, Building A, Evans, GA 30809. | https://msc.fema.gov/portal/advanceSearch | Aug. 19, 2021 | 130059
Maryland: Howard | Unincorporated areas of Howard County (21-03-0437P). | The Honorable Calvin Ball, Howard County Executive, 3430 Court House Drive, Ellicott City, MD 21043. | Howard County Stormwater Management Division, Bureau of Environmental Services, 9801 Broken Land Parkway, Columbia, MD 21046. | https://msc.fema.gov/portal/advanceSearch | Aug. 20, 2021 | 240044
New Mexico: Bernalillo | Unincorporated areas of Bernalillo County (20-06-2787P). | The Honorable Charlene E. Pyskoty, Chair, Bernalillo County Board of Commissioners, 1 Civic Plaza Northwest, Albuquerque, NM 87102. | Bernalillo County Public Works Department, 2400 Broadway Boulevard, Albuquerque, NM 87102. | https://msc.fema.gov/portal/advanceSearch | Aug. 27, 2021 | 350001
North Carolina: Orange | City of Mebane (21-04-0010P). | The Honorable Ed Hooks, Mayor, City of Mebane, 106 East Washington Street, Mebane, NC 27302. | Planning Department, 106 East Washington Street, Mebane, NC 27302. | https://msc.fema.gov/portal/advanceSearch | Jul. 15, 2021 | 370390
Pennsylvania:
Lackawanna | Borough of Dickson City (21-03-0435P). | The Honorable Robert W. MacCallum, Mayor, Borough of Dickson City, 901 Enterprise Street, Dickson City, PA 18519. | Borough Hall, 901 Enterprise Street, Dickson City, PA 18519. | https://msc.fema.gov/portal/advanceSearch | Aug. 23, 2021 | 420528
Lackawanna | Borough of Moscow (21-03-0435P). | The Honorable Arthur Pencek, President, Borough of Moscow Council, 123 Van Brunt Street, Moscow, PA 18444. | Borough Hall, 123 Van Brunt Street, Moscow, PA 18444. | https://msc.fema.gov/portal/advanceSearch | Aug. 23, 2021 | 420534
Lackawanna | Borough of Olyphant (21-03-0435P). | The Honorable John Sedlak, Jr., Mayor, Borough of Olyphant, 113 Willow Avenue, Olyphant, PA 18447. | Borough Hall, 113 Willow Avenue, Olyphant, PA 18447. | https://msc.fema.gov/portal/advanceSearch | Aug. 23, 2021 | 420536
Lackawanna | Township of Clifton (21-03-0435P). | The Honorable Theodore Stout, Chairman, Township of Clifton Board of Supervisors, 361 State Road 435, Clifton, PA 18424. | Township Hall, 361 State Road 435, Clifton, PA 18424. | https://msc.fema.gov/portal/advanceSearch | Aug. 23, 2021 | 421751
Montgomery | Township of Upper Merion (20-03-1496P). | Mr. Anthony Hamaday, Manager, Township of Upper Merion, 175 West Valley Forge Road, King of Prussia, PA 19406. | Township Hall, 175 West Valley Forge Road, King of Prussia, PA 19406. | https://msc.fema.gov/portal/advanceSearch | Aug. 23, 2021 | 420957
Texas:
Collin | City of Murphy (20-06-3201P). | The Honorable Scott Bradley, Mayor, City of Murphy, 206 North Murphy Road, Murphy, TX 75094. | City Hall, 206 North Murphy Road, Murphy, TX 75094. | https://msc.fema.gov/portal/advanceSearch | Aug. 23, 2021 | 480137
Denton and Tarrant | City of Fort Worth (21-06-0261P). | The Honorable Betsy Price, Mayor, City of Fort Worth, 200 Texas Street, Fort Worth, TX 76102. | Transportation and Public Works Department, Engineering Vault, 200 Texas Street, Fort Worth, TX 76102. | https://msc.fema.gov/portal/advanceSearch | Aug. 16, 2021 | 480596
Guadalupe | City of Seguin (20-06-3659P). | The Honorable Donna Dodgen, Mayor, City of Seguin, 205 North River Street, Seguin, TX 78155. | City Hall, 205 North River Street, Seguin, TX 78155. | https://msc.fema.gov/portal/advanceSearch | Aug. 19, 2021 | 485508
Guadalupe | Unincorporated areas of Guadalupe County (20-06-3659P). | The Honorable Kyle Kutscher, Guadalupe County Judge, 211 West Court Street, Seguin, TX 78155. | Guadalupe County Engineering Department, 2605 North Guadalupe Street, Seguin, TX 78155. | https://msc.fema.gov/portal/advanceSearch | Aug. 19, 2021 | 480266
Harris | Unincorporated areas of Harris County (20-06-3120P). | The Honorable Lina Hidalgo, Harris County Judge, 1001 Preston Street, Suite 911, Houston, TX 77002. | Harris County Permit Office, 1005 Northwest Freeway, Suite 120, Houston, TX 77092. | https://msc.fema.gov/portal/advanceSearch | Aug. 23, 2021 | 480287
Rockwall | City of Royse City (20-06-3180P). | The Honorable Clay Ellis, Mayor, City of Royse City, 305 North Arch Street, Royse City, TX 75189. | Engineering Department, 305 North Arch Street, Royse City, TX 75189. | https://msc.fema.gov/portal/advanceSearch | Aug. 13, 2021 | 480548

[FR Doc. 2021-10900 Filed 5-21-21; 8:45 am]

BILLING CODE 9110-12-P